FEDERAL COMMUNICATIONS COMMISSION

[OMB 3060-0174 and 3060-0214; FR ID 38261]

Information Collections Being Reviewed by the Federal Communications Commission

AGENCY: Federal Communications Commission.

ACTION: Notice and request for comments.

SUMMARY: As part of its continuing effort to reduce paperwork burdens, and as required by the Paperwork Reduction Act of 1995 (PRA), the Federal Communications Commission (FCC or Commission) invites the general public and other Federal agencies to take this opportunity to comment on the following information collection(s). Comments are requested concerning: whether the proposed collection of information is necessary for the proper performance of the functions of the Commission, including whether the information shall have practical utility; the accuracy of the Commission's burden estimate; ways to enhance the quality, utility, and clarity of the information collected; ways to minimize the burden of the collection of information on the respondents, including the use of automated collection techniques or other forms of information technology; and ways to further reduce the information collection burden on small business concerns with fewer than 25 employees.

The FCC may not conduct or sponsor a collection of information unless it displays a currently valid Office of Management and Budget (OMB) control number. No person shall be subject to any penalty for failing to comply with a collection of information subject to the PRA that does not display a valid OMB control number.

DATES: Written comments should be submitted on or before September 20, 2021. If you anticipate that you will be submitting comments but find it difficult to do so within the period of time allowed by this notice, you should advise the contacts below as soon as possible.

ADDRESSES: Direct all PRA comments to Cathy Williams, FCC, via email to PRA@fcc.gov and to Cathy.Williams@fcc.gov.

FOR FURTHER INFORMATION CONTACT: For additional information about the information collection, contact [insert PERM's analyst name and phone number].

SUPPLEMENTARY INFORMATION:

OMB Control Number: 3060-0174.

Title: Sections 73.1212, 76.1615, and 76.1715, Sponsorship Identification.

Form Number: N/A.

Type of Review: Revision of a currently approved collection.

Respondents: Business or other for-profit entities; Individuals or households.

Number of Respondents and Responses: 22,900 respondents; 1,886,524 responses.

Estimated Time per Response: .0011 to .2011 hours.

Frequency of Response: Recordkeeping requirement, Third party disclosure requirement, On occasion reporting requirement.

Total Annual Burden: 258,567 Hours.

Total Annual Cost: $448,923.

Obligation to Respond: Required to obtain or retain benefits. The statutory authority for this collection is contained in sections 4(i), 317 and 507 of the Communications Act of 1934, as amended.

Nature and Extent of Confidentiality: The FCC is preparing a system of records, FCC/MB-2, “Broadcast Station Public Inspection Files,” to cover the personally identifiable information (PII) that may be included in the broadcast station public inspection files. Respondents may request materials or information submitted to the Commission be withheld from public inspection under 47 CFR 0.459 of the Commission's rules.

Privacy Impact Assessment: There are two systems of records relevant to this collection: FCC/MB-2, “Broadcast Station Public Inspection Files,” and FCC/IB-1, “International Bureau Filing System (IBFS).” The Commission has published a system of records notice (SORN) for FCC/MB-2 and will modify it as necessary to include any personally identifiable information (PII) that will be added to the Online Public Inspection Files system as part of this collection. The Commission is also preparing a SORN for FCC/IBFS-1 to cover any PII that will be added to IBFS as part of this collection. The Commission is preparing Privacy Impact Assessments for both systems.

Needs and Uses: The information collection requirements that are approved under this collection are as follows:

47 CFR 73.1212 requires a broadcast station to identify at the time of broadcast the sponsor of any matter for which consideration is provided. For advertising commercial products or services, generally the mention of the name of the product or service constitutes sponsorship identification. In the case of television political advertisements concerning candidates for public office, the sponsor shall be identified with letters equal to or greater than four (4) percent of the vertical height of the television screen that airs for no less than four (4) seconds. In addition, when an entity rather than an individual sponsors the broadcast of matter that is of a political or controversial nature, licensee is required to retain a list of the executive officers, or board of directors, or executive committee, etc., of the organization paying for such matter. Sponsorship announcements are waived with respect to the broadcast of “want ads” sponsored by an individual but the licensee shall maintain a list showing the name, address and telephone number of each such advertiser. These lists shall be made available for public inspection.

47 CFR 73.1212(e) states that, when an entity rather than an individual sponsors the broadcast of matter that is of a political or controversial nature, the licensee is required to retain a list of the executive officers, or board of directors, or executive committee, etc., of the organization paying for such matter in its public file. Pursuant to the changes contained in 47 CFR 73.1212(e) and 47 CFR 73.3526(e)(19), this list, which could contain personally identifiable information, would be located in a public inspection file to be located on the Commission's website instead of being maintained in the public file at the station. Burden estimates for this change are included in OMB Control Number 3060-0214.

47 CFR 76.1615 states that, when a cable operator engaged in origination cablecasting presents any matter for which money, service or other valuable consideration is provided to such cable television system operator, the cable television system operator, at the time of the telecast, shall identify the sponsor. Under this rule section, when advertising commercial products or services, an announcement stating the sponsor's corporate or trade name, or the name of the sponsor's product is sufficient when it is clear that the mention of the name of the product constitutes a sponsorship identification. In the case of television political advertisements concerning candidates for public office, the sponsor shall be identified with letters equal to or greater than four (4) percent of the vertical height of the television screen that airs for no less than four (4) seconds.

47 CFR 76.1715 state that, with respect to sponsorship announcements that are waived when the broadcast/origination cablecast of “want ads” sponsored by an individual, the licensee/operator shall maintain a list showing the name, address and telephone number of each such advertiser. These lists shall be made available for public inspection.

This information collection is being revised to reflect the burden associated with the foreign sponsorship identification disclosure requirements adopted in the Sponsorship Identification Requirements for Foreign Government-Provided Programming (86 FR 32221, June 17, 2021, FCC 21-42, rel. Apr. 22, 2021). The collection requires broadcast television and radio stations, as well as 325(c) permit holders, to make a specific disclosure at the time of broadcast if material aired pursuant to the lease of time on the station has been sponsored, paid for, or furnished by a foreign governmental entity that indicates the specific entity and country involved. Licensees of each broadcast station and 325(c) permit holders also are required to exercise reasonable diligence to ascertain whether the foreign sponsorship disclosure requirements apply at the time of the lease agreement and at any renewal thereof.

This information collection requirements will provide the Commission and the public with increased transparency and will ensure that audiences of broadcast stations are aware when a foreign government, or its representatives, are seeking to persuade the American public. The information collection requirements will also enable interested parties to monitor the extent of such efforts to persuade the American public.

OMB Control Number: 3060-0214.

Title: Sections 73.3526 and 73.3527, Local Public Inspection Files; Sections 73.1212, 76.1701 and 73.1943, Political Files.

Form Number: N/A.

Type of Review: Revision of a currently approved collection.

Respondents: Business or other for-profit entities; Not for profit institutions; State, Local or Tribal government; Individuals or households.

Number of Respondents and Responses: 23,984 respondents; 62,839 responses.

Estimated Time per Response: 1-52 hours.

Frequency of Response: On occasion reporting requirement, Recordkeeping requirement, Third party disclosure requirement.

Obligation to Respond: Required to obtain or retain benefits. The statutory authority that covers this information collection is contained in Sections 151, 152, 154(i), 303, 307 and 308 of the Communications Act of 1934, as amended.

Total Annual Burden: 2,047,805 Hours.

Total Annual Cost: No cost.

Privacy Impact Assessment: There are two systems of records relevant to this collection: FCC/MB-2, “Broadcast Station Public Inspection Files,” and FCC/IB-1, “International Bureau Filing System (IBFS).” The Commission has published a system of records notice (SORN) for FCC/MB-2 and will modify it as necessary to include any personally identifiable information (PII) that will be added to the Online Public Inspection Files system as part of this collection. The Commission is also preparing a SORN for FCC/IBFS-1 to cover any PII that will be added to IBFS as part of this collection. The Commission is preparing Privacy Impact Assessments for both systems.

Nature and Extent of Confidentiality: Most of the documents comprising the public file consist of materials that are not of a confidential nature. Respondents complying with the information collection requirements may request that the information they submit be withheld from disclosure. If confidentiality is requested, such requests will be processed in accordance with the Commission's rules, 47 CFR 0.459.

Needs and Uses: The information collection requirements included under this OMB Control Number 3060-0214, requires broadcast stations to maintain for public inspection a file containing the material set forth in 47 CFR 73.3526 and 73.3527.

This collection is being revised to reflect the burden associated with the foreign sponsorship identification disclosure requirements adopted in the Sponsorship Identification Requirements for Foreign Government-Provided Programming (86 FR 32221, June 17, 2021, FCC 21-42, rel. Apr. 22, 2021). The collection requires broadcast television and radio stations to place copies of foreign sponsorship identification disclosures required by 47 CFR 73.1212(j) and the name of the program to which the disclosures were appended in its online public inspection file on a quarterly basis in a standalone folder marked as “Foreign Government-Provided Programming Disclosures.” The collection requires 325(c) permit holders to place copies of foreign sponsorship identification disclosures required by 47 CFR 73.1212(j) and the name of the program to which the disclosures were appended in its International Bureau Filing System record on a quarterly basis. The filing must state the date and time the program aired. In the case of repeat airings of the program, those additional dates and times should also be included. Where an aural announcement was made, its contents must be reduced to writing and placed in the online public inspection file in the same manner.

This information collection requirement will provide the Commission and the public with increased transparency and will ensure that audiences of broadcast stations are aware when a foreign government, or its representatives, are seeking to persuade the American public. The information collection requirements will also enable interested parties to monitor the extent of such efforts to persuade the American public.

Federal Communications Commission.
Marlene Dortch,
Secretary, Office of the Secretary.

[FR Doc. 2021-15503 Filed 7-20-21; 8:45 am]

BILLING CODE 6712-01-P